DEPARTMENT OF HOMELAND SECURITY

Coast Guard

33 CFR Part 165

[Docket No. USCG-2019-0459]

Safety Zone; Fleet Week Maritime Festival, Pier 66, Elliot Bay, Seattle, Washington

AGENCY: Coast Guard, DHS.

ACTION: Notice of non-enforcement of regulation.

SUMMARY: The Coast Guard does not plan to enforce the Fleet Week Maritime Festival's Pier 66 Safety Zone in Elliott Bay, WA in 2019. The Captain of the Port has determined that enforcement of this regulation is not presently needed to ensure participant and spectator safety for this year's Fleet Week Maritime Festival. During this year's Fleet Week Maritime Festival, entry into, transit through, mooring, or anchoring within this safety zone is authorized unless directed otherwise by the Captain of the Port, Puget Sound, or her designated representative.

DATES: The Coast Guard does not plan to enforce the regulations in 33 CFR 165.1330 in 2019.

FOR FURTHER INFORMATION CONTACT: If you have questions about this notice of non-enforcement, call or email Lieutenant Ellie Wu, Sector Puget Sound Waterways Management Division, U.S. Coast Guard; telephone (206) 217-6051, email SectorPugetSoundWWM@uscg.mil.

SUPPLEMENTARY INFORMATION: The Coast Guard does not plan to enforce the safety zone for the Fleet Week Maritime Festival in 33 CFR 165.1330 in 2019. We normally enforce this regulation for the Parade of Ships during the festival, but do not plan to enforce it this year because based on the Captain of the Port's current assessment, enforcement of this regulation is not needed to ensure participant and spectator safety for this year's Fleet Week Maritime Festival.

In addition to this notice of non-enforcement in the Federal Register, the Coast Guard will provide the maritime community with advanced notification via the Local Notice to Mariners and marine information broadcasts. If the Captain of the Port determines that the regulated area needs to be enforced, she will issue a Broadcast Notice to Mariners and provide actual notice of enforcement.

Dated: June 18, 2019.
L.A. Sturgis,
Captain, U.S. Coast Guard, Captain of the Port, Puget Sound.

[FR Doc. 2019-13275 Filed 6-20-19; 8:45 am]

BILLING CODE 9110-04-P